SMALL BUSINESS ADMINISTRATION

[License No. 09/09-0481]

Notice Seeking Exemption Under Section 312 of the Small Business Investment Act, Conflicts of Interest: Propel Venture Partners US Fund I, L.P.

Notice is hereby given that Propel Venture Partners US Fund, L.P., 201 Mission Street, 25th Floor, San Francisco, CA 94105, a Federal Licensee under the Small Business Investment Act of 1958, as amended (“the Act”), in connection with the financing of a small concerns, has sought an exemption under Section 312 of the Act and section 107.730, Financings which Constitute Conflicts of Interest of the Small Business Administration (“SBA”) Rules and Regulations (13 CFR 107.730). Propel Venture Partners US Fund, L.P. proposes to purchase common stock of Kasisto, Inc. from BBVA Compass Bancshares, Inc. (“BBVA”). Kasisto has requested the transaction because it prefers the shares to be held by a venture investor who will support the continued growth of the company.

The proposed transaction is brought within the purview of section 107.730 of the Regulations because BBVA is the sole owner of Propel Venture Partners US Fund, L.P. BBVA is considered an Associate of Propel Venture Partners US Fund, L.P. pursuant to section 107.50. Therefore, the proposed transaction is considered self-deal pursuant to 13 CFR 107.730 and requires a regulatory exemption. Notice is hereby given that any interested person may submit written comments on the transaction within fifteen days of the date of this publication to Associate Administrator for Investment, U.S. Small Business Administration, 409 Third Street SW., Washington, DC 20416.

Dated: October 23, 2017.
A. Joseph Shepard,
Associate Administrator for Investment and Innovation.

[FR Doc. 2017-23499 Filed 10-27-17; 8:45 am]

BILLING CODE P